DEPARTMENT OF ENERGY

Federal Energy Regulatory Commission

Notice of Attendance at the Colorado Public Utilities Commission's Fourth Commissioner Information Meeting

The Federal Energy Regulatory Commission (Commission) hereby gives notice that Commissioners and members of its staff may attend the Colorado Public Utilities Commission's Commissioner Information Meeting (CIM) as noted below. Their attendance is part of the Commission's ongoing outreach efforts.

The CIM will be held on January 25, 2018 from 8:30 a.m. until 10:00 a.m. Mountain Time at the Colorado Public Utilities Commission, Hearing Room A, 1560 Broadway, Suite 250, Denver, CO 80202. The phone number is (303) 894-2533.

The discussions may address matters at issue in the following proceedings:

Docket No. ER12-1179, Southwest Power Pool, Inc.

Docket No. ER15-1809, ATX Southwest, LLC

Docket No. ER15-2028, Southwest Power Pool, Inc.

Docket No. ER15-2115, Southwest Power Pool, Inc.

Docket No. ER15-2236, Midwest Power Transmission Arkansas, LLC

Docket No. ER15-2237, Kanstar Transmission, LLC

Docket No. ER15-2324, Southwest Power Pool, Inc.

Docket No. ER15-2594, South Central MCN LLC

Docket No. EL16-91, Southwest Power Pool, Inc.

Docket No. EL18-19, Southwest Power Pool, Inc.

Docket No. EL16-108, Tilton Energy v. Midcontinent Independent System Operator, Inc.

Docket No. EL16-110, Southwest Power Pool, Inc.

Docket No. ER16-204, Southwest Power Pool, Inc.

Docket No. ER16-2522, Southwest Power Pool, Inc.

Docket No. ER16-2523, Southwest Power Pool, Inc.

Docket No. EL17-11, Alabama Power Co. v. Southwest Power Pool, Inc.

Docket No. EL17-21, Kansas Electric Co. v. Southwest Power Pool, Inc.

Docket No. EL17-86, Nebraska Public Power District v. Southwest Power Pool, Inc.

Docket No. EL17-69, Buffalo Dunes et al. v. Southwest Power Pool, Inc.

Docket No. ER17-426, Southwest Power Pool, Inc.

Docket No. ER17-428, Southwest Power Pool, Inc.

Docket No. ER17-469, Southwest Power Pool, Inc.

Docket No. ER17-772, Southwest Power Pool, Inc.

Docket No. ER17-889, Southwest Power Pool, Inc.

Docket No. ER17-953, South Central MCN LLC

Docket No. ER17-1092, Southwest Power Pool, Inc.

Docket No. ER17-1046, South Central MCN LLC

Docket No. ER17-1482, Southwest Power Pool, Inc.

Docket No. ER17-1568, Southwest Power Pool, Inc.

Docket No. ER17-1575, Southwest Power Pool, Inc.

Docket No. ER17-2027, Southwest Power Pool, Inc.

Docket No. ER17-2229, Southwest Power Pool, Inc.

Docket No. ER17-2256, Southwest Power Pool, Inc.

Docket No. ER17-2257, Southwest Power Pool, Inc.

Docket No. ER17-2312, Southwest Power Pool, Inc.

Docket No. ER17-2388, Southwest Power Pool, Inc.

Docket No. ER17-2441, Southwest Power Pool, Inc.

Docket No. ER17-2442, Southwest Power Pool, Inc.

Docket No. ER17-2523, Southwest Power Pool, Inc.

Docket No. ER17-2537, Southwest Power Pool, Inc.

Docket No. ER17-2563, Southwest Power Pool, Inc.

Docket No. ER17-2583, Southwest Power Pool, Inc.

Docket No. ER18-171, Southwest Power Pool, Inc.

Docket No. ER18-194, Southwest Power Pool, Inc.

Docket No. ER18-195, Southwest Power Pool, Inc.

Docket No. ER18-208, Southwest Power Pool, Inc.

Docket No. ER18-332, Southwest Power Pool, Inc.

Docket No. ER18-352, Southwest Power Pool, Inc.

Docket No. ER18-364, Southwest Power Pool, Inc.

Docket No. ER18-374, Southwest Power Pool, Inc.

Docket No. ER18-381, Southwest Power Pool, Inc.

Docket No. ER18-401, Southwestern Public Service Company

Docket No. ER18-421, Southwest Power Pool, Inc.

Docket No. ER18-478, Southwest Power Pool, Inc.

Docket No. ER18-495, Southwestern Public Service Co.

Docket No. ER18-499, Southwestern Electric Power Company

Docket No. ER18-500, Southwestern Electric Power Company

Docket No. ER18-590, Southwest Power Pool, Inc.

Docket No. ER18-421, Southwest Power Pool, Inc.

Docket No. ER18-594, Southwest Power Pool, Inc.

Docket No. ER18-592, Southwest Power Pool, Inc.

Docket No. ER18-599, Southwest Power Pool, Inc.

Docket No. EL18-9-000, Xcel Energy Services, Inc. v. Southwest Power Pool, Inc.

Docket No. EL18-20-000, Indicated SPP Transmission Owners v. Southwest Power Pool, Inc.

Docket No. EL18-26, EDF Renewable Energy, Inc. v. Midcontinent Independent System Operator, Inc., Southwest Power Pool, Inc., and PJM Interconnection, L.L.C.

Docket No. EL18-35, Southwest Power Pool, Inc.

This meeting is open to the public.

For more information, contact Patrick Clarey, Office of Energy Market Regulation, Federal Energy Regulatory Commission at (317) 249-5937 or patrick.clarey@ferc.gov.

Dated: January 12, 2018.
Kimberly D. Bose,
Secretary.

[FR Doc. 2018-01022 Filed 1-19-18; 8:45 am]

BILLING CODE 6717-01-P